DEPARTMENT OF LABOR

Mine Safety and Health Administration

Petitions for Modification

The following parties have filed petitions to modify the application of existing safety standards under section 101(c) of the Federal Mine Safety and Health Act of 1977.

1. Kingwood Mining Company, LLC

[Docket No. M-2005-043-C]

Kingwood Mining Company, LLC, Route 1, Box 294C, Newburg, West Virginia has filed a petition to modify the application of 30 CFR 75.364(a)(1) (Weekly examination) to its Whitetail K-Mine (MSHA I.D. No. 46-08751) located in Preston County, West Virginia. The petitioner proposes to have a certified person conduct weekly examination of the East Mains 1-Right and 2-Right panels for quantity, quality, and direction of the air and record the results of the examinations in a book that will be made available for interested persons. The petitioner states that due to deteriorating roof and numerous falls in the East Mains 1-Right and 2-Right panels, to travel the areas in their entirety would be unsafe; that all approaches inby the inlet and outlet areas into the East Mains 1-Right and 2-Right panels will be dangered off; and that the proposed alternate method will provide adequate air evaluation of the worked out areas and limit the exposure of hazards to the person conducting the examinations. The petitioner asserts that the proposed alternative method will provide at least the same measure of protection as the existing standard.

2. Andalex Resources, Inc.

[Docket No. M-2005-044-C]

Andalex Resources, Inc., P.O. Box 902, Price, Utah 84501 has filed a petition to modify the application of 30 CFR 75.1100-2(e)(2) (Quantity and location of firefighting equipment) to its Aberdeen Mine (MSHA I.D. No. 42-02028) located in Carbon County, Utah. The petitioner requests a modification of the existing standard to permit the use of two 10 pound portable (ABC) fire extinguishers at both temporary and permanent electrical installations. The petitioner proposes to have two multi-purpose dry chemical portable fire extinguishers with at least a minimum capacity of 10 pounds of dry powder at each temporary electrical installation. The petitioner asserts that application of the existing standard will result in a diminution of safety and the proposed alternative method will provide at least the same measure of protection as the existing standard.

3. Energy West Mining Company

[Docket No. M-2005-045-C]

Energy West Mining Company, P.O. Box 310, Huntington, Utah 84528 has filed a petition to modify the application of 30 CFR 75.350 (Belt air course ventilation) to its Deer Creek Mine (MSHA I.D. No. 42-00121) located in Emery County, Utah. The petitioner proposes to implement this petition for modification for development of the entries and crosscuts in the coal seam between the primary intake and belt slope, and to the return slope upon completion of the connection between the primary intake slope and the belt slope. The petitioner states that when the connection is made with the return slope the petition for modification will be terminated. The petitioner asserts that application of the existing standard for connection and initial development of the coal seam between the intake and belt slopes, will cause a diminution of safety in relation to the increased exposure of hauling coal down the slopes and the proposed alternative method will provide at least the same measure of protection as the existing standard.

Request for Comments

Persons interested in these petitions are encouraged to submit comments via Federal eRulemaking Portal: http://www.regulations.gov; E-mail: zzMSHA-Comments@dol.gov; Fax: (202) 693-9441; or Regular Mail/Hand Delivery/Courier: Mine Safety and Health Administration, Office of Standards, Regulations, and Variances, 1100 Wilson Boulevard, Room 2350, Arlington, Virginia 22209. All comments must be postmarked or received in that office on or before August 10, 2005.

Copies of these petitions are available for inspection at that address.

Dated at Arlington, Virginia this 5th day of July 2005.
Rebecca J. Smith,
Acting Director, Office of Standards, Regulations, and Variances.

[FR Doc. 05-13524 Filed 7-8-05; 8:45 am]

BILLING CODE 4510-43-P